DEPARTMENT OF ENERGY

Federal Energy Regulatory Commission

18 CFR Part 11

[Docket No. RM04-1-000]

Update of the Federal Energy Regulatory Commission's Fees Schedule for Annual Charges for the Use of Government Lands

November 20, 2003.

AGENCY: Federal Energy Regulatory Commission.

ACTION: Final rule; update of Federal land use fees.

SUMMARY: In accordance with the Commission's regulations, the Commission by its designee, the Executive Director, is updating its schedule of fees for the use of government lands. The yearly update is based on the most recent schedule of fees for the use of linear rights-of-way prepared by the United States Forest Service. Since the next fiscal year will cover the period from October 1, 2003 through September 30, 2004 the fees in this notice will become effective October 1, 2003. The fees will apply to fiscal year 2004 annual charges for the use of government lands.

The Commission has concluded, with the concurrence of the Administrator of the Office of Information and Regulatory Affairs of OMB that this rule is not a “major rule” as defined in section 251 of the Small Business Regulatory Enforcement Fairness Act of 1996, 5 U.S.C 804(2).

EFFECTIVE DATE: October 1, 2003.

FOR FURTHER INFORMATION CONTACT: Fannie Kingsberry, Financial Services Division, Office of the Executive Director, Federal Energy Regulatory Commission, 888 First Street, NE., Washington, DC 20426, (202) 502-6108.

SUPPLEMENTARY INFORMATION: Document Availability: In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington, DC 20426.

From FERC's Home Page on the Internet, this information is available in the eLibrary (formerly FERRIS). The full text of this document is available on eLibrary in PDF and MSWord format for viewing, printing, and/or downloading. To access this document in eLibrary, type the docket number excluding the last three digits of this document in the docket number field.

User assistance is available for eLibrary and the FERC's Web site during normal business hours by contacting FERC Online Support by telephone at (866) 208-3676 (toll free) or for TTY, (202) 502-8659, or by e-mail at FERCOnline Support@ ferc.gov.

List of Subjects in 18 CFR Part 11

Electric power, Reporting and recordkeeping requirements.

Thomas R. Herlihy,
Executive Director, Office of the Executive Director.

Accordingly, the Commission, effective October 1, 2003, amends part 11 of Chapter I, Title 18 of the Code of Federal Regulations, as follows:

PART 11—[AMENDED]

1. The authority citation for part 11 continues to read as follows:

Authority: 16 U.S.C. 791a-825r; 42 U.S.C. 7101-7352.

2. In part 11, Appendix A is revised to read as follows.

Appendix A to Part 11—Fee Schedule for FY 2004
State/County | Rate per acre
Alabama: All Counties | $26.64
Arkansas: All Counties | 19.99
Arizona:
Apache | 6.64
Cochise
Gila
Graham
La Paz
Mohave
Navajo
Pima
Yavapai
Yuma
Coconino (North of Colorado R.)
Coconino (South of Colorado R.) | 26.64
Greenlee
Maricopa
Pinal
Santa Cruz
California:
Imperial | 13.32
Inyo
Lassen
Modoc
Riverside
San Bernardino
Siskiyou | 19.99
Alameda | 33.30
Alpine
Amador
Butte
Calaveras
Colusa
Contra Costa
Del Norte
El Dorado
Fresno
Glenn
Humboldt
Kern | 33.30
Kings
Lake
Madera
Mariposa
Mendicino
Merced
Mono
Napa
Nevada
Placer
Plumas
Sacramento
San Benito
San Joaquin
Santa Clara
Shasta
Sierra
Solano
Sonoma
Stanislaus
Sutter
Tehama
Trinity
Tulare
Tuolumne
Yolo
Yuba
Los Angeles | 39.98
Marin
Monterey
Orange
San Diego
San Francisco
San Luis Obispo
San Mateo
Santa Barbara
Santa Cruz
Ventura
Colorado:
Adams | 6.64
Arapahoe
Bent
Cheyenne
Crowley
Elbert
El Paso
Huerfano
Kiowa
Kit Carson
Lincoln | 6.64
Logan
Moffat
Montezuma
Morgan
Pueblo
Sedgewick
Washington
Weld
Yuma
Baca | 13.32
Broomfield ¹
Dolores
Garfield
Las Animas
Mesa
Montrose
Otero
Prowers
Rio Blanco
Routt
San Miguel
Alamosa | 26.64
Archuleta
Boulder
Chaffee
Clear Creek
Conejos
Costilla
Custer
Denver
Delta
Douglas
Eagle
Fremont
Gilpin
Grand
Gunnison
Hinsdale
Jackson
Jefferson
Lake
La Plata
Larimer
Mineral
Ouray
Park
Pitkin
Rio Grande
Saguache
San Juan | 26.64
Summit
Teller
Connecticut: All Counties | 6.64
Florida:
Baker | 39.98
Bay
Bradford
Calhoun
Clay
Columbia
Dixie
Duval
Escambia
Franklin
Gadsden
Gilchrist
Gulf
Hamilton
Holmes
Jackson
Jefferson
Lafayette
Leon
Liberty
Madison
Nassau
Okaloosa
Santa Rosa
Suwannee
Taylor
Union
Wakulla
Walton
Washington
All Other Counties | 66.59
Georgia:
All Counties | 39.98
Idaho:
Cassia | 6.64
Gooding
Jerome
Lincoln
Minidoka
Oneida
Owyhee
Power
Twin Falls
Ada | 19.99
Adams
Bannock
Bear Lake
Benewah
Bingham
Blaine
Boise
Bonner
Bonneville
Boundary
Butte
Camas
Canyon
Caribou
Clark
Clearwater
Custer
Elmore
Franklin
Fremont
Gem
Idaho
Jefferson
Kootenai
Latah
Lemhi
Lewis
Madison
Nez Perce
Payette
Shoshone
Teton
Valley
Washington
Illinois: All Counties | 19.99
Indiana: All Counties | 33.30
Kansas:
Morton | 13.32
All Other Counties | 6.64
Kentucky: All Counties | 19.99
Louisiana: All Counties | 39.98
Maine: All Counties | 19.99
Michigan:
Alger | 19.99
Baraga
Chippewa
Delta
Dickinson
Gogebic
Houghton
Iron
Keweenaw
Luce
Macking
Marquette
Menominee
Ontonagon
Schoolcraft
All Other Counties | 26.64
Minnesota: All Counties | 19.99
Mississippi: All Counties | 26.64
Missouri: All Counties | 19.99
Montana
Big Horn | 6.64
Blaine
Carter
Cascade
Chouteau
Custer
Daniels
McCone
Meagher
Dawson
Fallon
Fergus
Garfield
Glacier
Golden Valley
Hill
Judith Basin
Liberty
Musselshell
Petroleum
Phillips
Pondera
Powder River
Prairie
Richland
Roosevelt
Rosebud
Sheridan | 6.64
Teton
Toole
Treasure
Valley
Wheatland
Wibaux
Yellowstone
Beaverhead | 19.99
Broadwater
Carbon
Deer Lodge
Flathead
Gallatin
Granite
Jefferson
Lake
Lewis & Clark
Lincoln
Madison
Mineral
Missoula
Park
Powell
Ravalli
Sanders
Silver Bow
Stillwater
Sweet Grass
Nebraska: All counties | 6.64
Nevada:
Churchill | 3.33
Clark
Elko
Esmeralda
Eureka
Humboldt
Lander
Lincoln
Lyon
Mineral
Nye
Pershing
Washoe
White Pine
Carson City | 33.30
Douglas
Story
New Hampshire: All counties | 19.99
New Mexico:
Chaves | 6.64
Curry
De Baca
Dona Ana
Eddy
Grant
Guadalupe
Harding
Hidalgo
Lea
Luna
McKinley
Otero
Quay
Roosevelt
San Juan
Socorro
Torrence
Rio Arriba | 13.32
Sandoual
Union
Bernalillo | 26.64
Catron
Cibola
Colfax
Lincoln
Los Alamos
Mora
San Miguel
Santa Fe
Sierra
Taos
Valencia
New York: All counties | 26.64
North Carolina: All counties | 39.98
North Dakota: All counties | 6.64
Ohio: All counties | 26.64
Oklahoma:
Beaver | 13.32
Cimarron
Roger Mills
Texas
Le Flore | 19.99
McCurtain
All other counties | 6.64
Oregon:
Harney | 6.64
Lake
Malheur
Baker | 13.32
Crook
Deschutes
Gilliam
Grant
Jefferson
Klamath
Morrow
Sherman
Umatilla
Union
Wallowa
Wasco
Wheeler
Coos | 19.99
Curry
Douglas
Jackson
Josephine
Benton | 26.64
Clackamas
Clatsop
Columbia
Hood River
Lane
Lincoln
Linn
Marion
Multnomah
Polk
Tillamook
Washington
Yamhill
Pennsylvania: All counties | 26.64
Puerto Rico: All | 39.98
South Carolina: All counties | 39.98
South Dakota:
Butte | 19.99
Custer
Fall River
Mead | 19.99
Pennington
All other counties | 6.64
Tennessee: All counties | 26.64
Texas:
Culberson | 6.64
El Paso
Hudspeth
All other counties | 39.98
Utah:
Beaver | 6.64
Box Elder
Carbon
Duchesne
Emery
Garfield
Grand
Iron
Juab
Kane
Millard
San Juan
Tooele
Uintah
Wayne
Washington | 13.32
Cache | 19.99
Daggett
Davis
Morgan
Piute
Rich
Salt Lake
Sanpete
Sevier
Summit
Utah
Wasatch
Weber
Vermont: All counties | 26.64
Virginia: All counties | 26.64
Washington:
Adams | 13.32
Asotin
Benton
Chelan
Columbia
Douglas
Franklin
Garfield
Grant
Kittitas
Klickitat
Lincoln
Okanogan
Spokane
Walla Walla
Whitman
Yakima
Ferry | 19.99
Pend Oreille
Stevens
Clallam | 26.64
Clark
Cowlitz
Grays Harbor
Island
Jefferson
King
Kitsap
Lewis
Mason
Pacific
Pierce
San Juan
Skagit
Skamania
Snohomish
Thurston
Wahkiakum
Whatcom
West Virginia: All counties | 26.64
Wisconsin: All counties | 19.99
Wyoming:
Albany | 6.64
Campbell
Carbon
Converse
Goshen
Hot Springs
Johnson
Laramie
Lincoln
Natrona
Niobrara
Platte
Sheridan
Sweetwater
Fremont
Sublette
Unita
Washakie
Big Horn | 19.99
Crook
Park
Teton
Weston
All other zones | 6.16
¹Note: Broomfield County created November 2001 from parts of Adams, Boulder, Jefferson and Weld Counties.

[FR Doc. 03-29515 Filed 12-2-03; 8:45 am]

BILLING CODE 6717-01-P